DEPARTMENT OF JUSTICE

Notice of Lodging of Proposed Consent Decree Under the Oil Pollution Act

On October 4, 2021, the Department of Justice lodged a proposed Consent Decree with the United States District Court for the Eastern District of Louisiana in United States and State of Louisiana v. American Commercial Barge Line LLC, Civil Case No. 2:21-cv-01818 (E.D. La.).

The United States is acting at the request of the designated federal trustees: National Oceanic and Atmospheric Administration and the United States Department of the Interior through the United States Fish and Wildlife Service. The State of Louisiana is acting through its designated State trustees: The Louisiana Oil Spill Coordinator's Office, Department of Public Safety & Corrections, Louisiana Department of Natural Resources, Louisiana Department of Environmental Quality, Louisiana Department of Wildlife and Fisheries, and the Coastal Protection and Restoration Authority.

The Complaint in this natural resource damages case was filed against Defendant American Commercial Barge Line LLC (“ACBL”) concurrently with the lodging of the proposed Consent Decree. This is a civil action for recovery of damages for injury to, destruction of, loss of, or loss of use of natural resources, under Section 1002 of the Oil Pollution Act (“OPA”), 33 U.S.C. 2702, and Section 2480 of the Louisiana Oil Spill Prevention and Response Act (“OSPRA”), La. Rev. Stat. 30:2480. The United States and the State of Louisiana seek damages in order to compensate for and restore natural resources injured by ACBL's oil discharge from its Barge DM-932 into the Mississippi River on or about July 23, 2008. The United States and the State also seek to recover unreimbursed costs of assessing such injuries and planning for restoration.

Under the proposed Consent Decree, ACBL will pay $2,071,212 to the trustees to restore, replace, or acquire the equivalent of the natural resources allegedly injured, destroyed, or lost as a result of the oil spill. ACBL also will effect the transfer of title and preservation of approximately 649.1 acres of forested woodland habitat in Plaquemines Parish, Louisiana near the English Turn of the Mississippi River. ACBL has already paid $1,320,961.72 to the trustees for past assessment and restoration planning costs.

The publication of this notice opens a period for public comment on the proposed Consent Decree. Comments should be addressed to the Assistant Attorney General, Environment and Natural Resources Division, and should refer to United States and State of Louisiana v. American Commercial Barge Line LLC, DJ# 90-5-1-1-10875/1, Civil Case No. 2:21-cv-01818 (E.D. La.). All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $40.25 (25 cents per page reproduction cost) payable to the United States Treasury.

Thomas Carroll,
Assistant Section Chief, Environmental Enforcement Section, Environment and Natural Resources Division.

[FR Doc. 2021-22059 Filed 10-7-21; 8:45 am]

BILLING CODE 4410-15-P